DEPARTMENT OF HEALTH AND HUMAN SERVICES

Centers for Disease Control and Prevention

[Program Announcement 04083]

Collaboration for Global Cancer and Tobacco Control Notice of Intent To Fund Single Eligibility Award

A. Purpose

The Centers for Disease Control and Prevention (CDC) announces the intent to fund fiscal year (FY) 2004 funds for a cooperative agreement program to support Center for Disease Control National Center for Chronic Disease Prevention and Health Promotion's (CDC/NCCDPHP) cancer prevention and tobacco control efforts. The Catalog of Federal Domestic Assistance number for this program is 93.945.

B. Eligible Applicant

Assistance will be provided only to the International Union against Cancer (UICC). Unique to UICC is its large, global volunteer member network, which can provide effective and maximal use of government resources. UICC is the only international non-governmental organization dedicated solely to the global control of cancer. UICC is the largest, independent, non-profit association of 280 cancer-fighting organizations in 90 countries. As such, UICC brings together a wide range of agencies including patient and survivor support networks, voluntary cancer societies, public health authorities, and research and treatment centers.

Globally, and through its partners and volunteer experts, UICC is well placed to disseminate knowledge and foster best practices on a wide scale. UICC's strategic focus is on four key directions which are consistent with the intended strategy for this project. UICC's strategic focus includes cancer prevention and early detection, tobacco control, knowledge transfer, and capacity building.

UICC has grown since its inception in 1933 to become a forum for and of professionals interested in all aspects of cancer control. UICC's journal, The International Journal of Cancer, publishes 30 issues per year. GLOBALINK Tobacco is the largest online network of tobacco control professionals with over 3500 members. UICC's World Cancer Congresses bring together leading experts in different fields from cancer research to cancer care.

The UICC World Cancer Congress will take place in July 2006 in Washington DC. In addition, the UICC is strategically positioned as the secretariat for the 13th World Conference on Tobacco or Health which will be held immediately following the World Cancer Congress also in Washington, DC.

The UICC is uniquely positioned as the only agency with an international network of non-governmental organizations in health and medical care focused solely on cancer and tobacco control. With its voluntary network in numerous countries, it is ideally positioned to address these linked issues in a cost effective way.

C. Funding

Approximately $450,000 is available in FY 2004 to fund this award. It is expected that the award will begin on or before June 15, 2004, and will be made for a 12-month budget period within a project period of up to three years. Funding estimates may change.

D. Where to Obtain Additional Information

For general comments or questions about this announcement, contact: Technical Information Management, CDC Procurement and Grants Office, 2920 Brandywine Road, Atlanta, GA 30341-4146, Telephone: 770-488-2700.

For technical questions about this program, contact: Myra Wisotzsky, Project Officer, 4770 Buford Highway, MS K-50, Atlanta, GA 30341, E-mail: mwisotzy@cdc.gov.

Dated: May 3, 2004.
William P. Nichols,
Acting Director, Procurement and Grants Office, Centers for Disease Control and Prevention.

[FR Doc. 04-10423 Filed 5-6-04; 8:45 am]

BILLING CODE 4163-18-P